DEPARTMENT OF AGRICULTURE

Animal and Plant Health Inspection Service

[Docket No. APHIS-2010-0104]

Notice of Decision To Authorize the Importation of Fresh Rambutan Fruit From Malaysia and Vietnam

AGENCY: Animal and Plant Health Inspection Service, USDA.

ACTION: Notice.

SUMMARY: We are advising the public of our decision to authorize the importation into the continental United States of fresh rambutan fruit (Nephelium lappaceum) from Malaysia and Vietnam. Based on the findings of a pest risk analysis, which we made available to the public for review and comment through a previous notice, we believe that the application of one or more designated phytosanitary measures will be sufficient to mitigate the risks of introducing or disseminating plant pests or noxious weeds via the importation of fresh rambutan fruit from Malaysia and Vietnam.

DATES: Effective Date: April 19, 2011.

FOR FURTHER INFORMATION CONTACT: Ms. Claudia Ferguson, Regulatory Policy Specialist, Regulations, Permits, and Import Manuals, PPQ, APHIS, 4700 River Road Unit 133, Riverdale, MD 20737-1231; (301) 734-0754.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on December 15, 2010 (75 FR 78207-78208, Docket No. APHIS-2010-0104), in which we announced the availability, for review and comment, of a PRA that evaluates the risks associated with the importation into the continental United States of fresh rambutan fruit (Nephelium lappaceum) from Malaysia and Vietnam. We solicited comments on the notice for 60 days ending on February 14, 2011. We received two comments by that date, from a State agriculture agency and an embassy agricultural affairs office. One commenter concurred with the mitigations described in the risk management document. The other commenter remarked that the notice itself did not specify which of the five designated phytosanitary measures would be required for the rambutan from Malaysia and Vietnam, so that it was not clear that APHIS was requiring treatment with irradiation. It is true that our December 2010 notice itself did not cite the specific mitigation measures that we had identified for rambutan from Malaysia and Vietnam, but those measures were detailed in the risk mitigation document made available with the notice. Those mitigation measures are also described in this notice. Accordingly, we have determined that no changes to the PRA are necessary based on the comment.

¹ To view the notice, the PRA, and the comments we received, go to http://www.regulations.gov/fdmspublic/component/main?main=DocketDetail&d=APHIS-2010-0104.

Therefore, in accordance with the regulations in § 319.56-4(c)(2)(ii), we are announcing our decision to authorize the importation into the continental United States of fresh rambutan fruit from Malaysia and Vietnam subject to the following phytosanitary measures:

• The rambutan may be imported into the continental United States in commercial consignments only.

• For rambutan from Malaysia, each consignment must be inspected by the national plant protection organization (NPPO) of Malaysia using a sampling procedure mutually agreed upon by APHIS and the NPPO. A representative sample of fruit must be drawn from each lot, inspected, and found free from the fungus Oidium nephelii.

• The rambutan must be irradiated in accordance with 7 CFR part 305 with a minimum absorbed dose of 400 Gy.

• If the irradiation treatment is applied outside the United States, each consignment of fruit must be precleared by APHIS inspectors in the country of origin (i.e., Malaysia or Vietnam). The rambutan must be jointly inspected by APHIS and the NPPO of the country of origin and accompanied by a phytosanitary certificate (PC) attesting that the fruit received the required irradiation treatment. For rambutan from Malaysia, the PC must also include an additional declaration stating that the consignment was inspected and found free from Oidium nephelii.

• For rambutan from Malaysia, if the irradiation treatment is to be applied upon arrival in the United States, each consignment of fruit must be inspected by the Malaysia NPPO prior to departure and accompanied by a PC with an additional declaration stating that the consignment has been inspected and found free from Oidium nephelii.

These conditions will be listed in the Fruits and Vegetables Import Requirements database (available at http://www.aphis.usda.gov/favir). In addition to these specific measures, rambutan fruit from Malaysia and Vietnam will be subject to the general requirements listed in § 319.56-3 that are applicable to the importation of all fruits and vegetables. Further, for fruits and vegetables requiring treatment as a condition of entry, the phytosanitary treatments regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 13th day of April 2011.
Kevin Shea,
Acting Administrator, Animal and Plant Health Inspection Service.

[FR Doc. 2011-9465 Filed 4-18-11; 8:45 am]

BILLING CODE 3410-34-P